NATIONAL AERONAUTICS AND SPACE ADMINISTRATION

[Notice: 24-065]

LunaRecycle Challenge Phase 1

AGENCY: National Aeronautics and Space Administration (NASA).

ACTION: Notice.

SUMMARY: The National Aeronautics and Space Administration (NASA) is announcing Phase 1 of The LunaRecycle Challenge, and teams that wish to compete in this public prize competition may now enter.

DATES: Phase 1 registration opens September 30, 2024, and will remain open until March 31, 2025 (4 p.m. Eastern). No further requests for registration will be accepted after this timeframe.

Other important dates, including deadlines for key deliverables from the Teams, are listed on the Challenge website: https://lunarecyclechallenge.ua.edu/.

ADDRESSES: Competitors in the LunaRecycle Challenge Phase 1 will develop solutions and submit from their own location.

FOR FURTHER INFORMATION CONTACT: To register for or get additional information regarding the LunaRecycle Challenge, please visit: https://lunarecyclechallenge.ua.edu/.

General questions and comments regarding the program should be addressed to Kim Krome, Centennial Challenges Program, NASA Marshall Space Flight Center, Huntsville, AL 35812. Email address: hq-stmd-centennialchallenges@mail.nasa.gov. Phone: 256-544-1265.

SUPPLEMENTARY INFORMATION: NASA seeks to stimulate research and technology solutions to support future missions and inspire new national aerospace capabilities through public prize competitions called Centennial Challenges. The LunaRecycle Challenge is one such competition. Centennial Challenges are managed at NASA's Marshall Space Flight Center in Huntsville, Alabama and are part of the Prizes, Challenges, and Crowdsourcing program within NASA's Space Technology Mission Directorate (STMD) at the agency's Headquarters in Washington.

The LunaRecycle Challenge is a prize competition with up to a $3,000,000.00 USD total prize purse to incentivize innovative approaches to develop and demonstrate novel recycling technologies and/or systems to convert solid (non-gaseous, non-biological, and non-metabolic) lunar waste streams into usable resources. This challenge has two tracks, Digital Twin track and Prototype Build track. At this time, NASA is opening Phase 1 of the competition, which has a $1,000,000 USD prize purse. In this phase of competition, teams in the Digital Twin track will design a preliminary (low-fidelity) digital twin and visualization of their solution and teams in the Prototype Build track will develop a detailed design of their solution. Teams are not required to build or submit any hardware in Phase 1.

NASA is providing the prize purse for U.S. Teams, and the University of Alabama will be conducting the Challenge on behalf of NASA. NASA is considering a Phase 2 of the competition depending on the outcome of the Phase 1 competition.

Summary

NASA is committed to sustainable space exploration. As NASA prepares for future human space missions, there will be a need to consider how various waste streams, including solid waste, can be minimized as well as how waste can be stored, processed, and recycled in a space environment so that little or no waste will need to be returned to Earth. In addition, NASA's STMD, which leads the development and demonstration of transformational technologies, has identified a number of research areas requiring further investment to meet future exploration, science, and other mission needs. These include topics such as trash management for habitation, in-space and on-surface manufacturing from recycled materials, and digital transformation technologies for terrestrial, in-Space, on-Surface manufacturing and operations—all of which may be addressed through this challenge. By utilizing open innovation strategies in this area, NASA has the opportunity to incentivize novel solutions to the challenges of waste in space and ensure the sustainability of future space exploration, industrial activities, and habitats.

Through LunaRecycle challenge, NASA seeks to incentivize the design and development of innovative, sustainable recycling solutions that can address the types of solid waste expected to accumulate during longer-term missions on the lunar surface.

Phase 1 of the LunaRecycle challenge is focused on incentivizing recycling solutions for the lunar surface that maximize the amount of waste that can be recycled from a list of waste categories and items that are relevant to a hypothetical 365-day lunar mission. NASA is seeking designs that minimize resource inputs; unusable outputs; and the mass and/or volume of hardware components and systems needed for recycling. For the Digital Twin track, NASA is also seeking highly innovative and imaginative solutions that harness the full potential of a digital twin. In Phase 1, Teams will have approximately six (6) months to register and submit solutions. Phase 1 will last a total of eight (8) months, including approximately two (2) months of judging.

I. Prize Amounts

The LunaRecyle Challenge offers a total prize purse up to $3,000,000.00 USD (three million United States dollars) to be awarded across two (2) phases of competition.

Prize purse for Phase 1 will total up to $1,000,000.00 USD (one million United States dollars), with the following prize distribution:

• Up to 8 top scoring U.S. Teams in the Digital Twin Track will receive $50,000.00 each.

• Up to 8 top scoring U.S. Teams in the Protype Build Track will receive $75,000.00 each.

The Prize Purse for Phase 2, should there be promising submissions in Phase 1 that demonstrate a viable approach, will be worth up to $2,000,000.00.

II. Eligibility To Participate and Win Prize Money

To be eligible to win a prize, competitors must register and comply with all requirements in the Official Rules. Interested Teams should refer to the Official Challenge website (https://lunarecyclechallenge.ua.edu/) for full details on eligibility and registration.

III. Official Rules

The complete rules for the LunaRecycle Challenge, can be found at: https://lunarecyclechallenge.ua.edu/.

IV. Further Information

For general information on the NASA Centennial Challenges please visit: https://www.nasa.gov/prizes-challenges-and-crowdsourcing/centennial-challenges/.

For general information on NASA prize competitions, challenges, and crowdsourcing opportunities, please visit: https://www.nasa.gov/prizes-challenges-and-crowdsourcing/.

Emily Pellegrino,
Federal Register Liaison Officer, National Aeronautics and Space Administration.

[FR Doc. 2024-21743 Filed 9-23-24; 8:45 am]

BILLING CODE 7510-13-P